DEPARTMENT OF COMMERCE

Foreign-Trade Zones Board

[Order No. 1770]

Reorganization of Foreign-Trade Zone 182 Under Alternative Site Framework; Fort Wayne, IN

Pursuant to its authority under the Foreign-Trade Zones Act of June 18, 1934, as amended (19 U.S.C. 81a-81u), the Foreign-Trade Zones Board (the Board) adopts the following Order:

Whereas, the Board adopted the alternative site framework (ASF) (74 FR 1170, 01/12/09; correction 74 FR 3987, 01/22/09; 75 FR 71069-71070, 11/22/10) as an option for the establishment or reorganization of general-purpose zones;

Whereas, the City of Fort Wayne, Indiana, grantee of Foreign-Trade Zone 182, submitted an application to the Board (FTZ Docket 13-2011, filed 2/18/2011) for authority to reorganize under the ASF with a service area of Adams, Allen, DeKalb, Huntington, Noble, Wabash, Wells and Whitley Counties, Indiana, within and adjacent to the Fort Wayne Customs and Border Protection port of entry, FTZ 182's existing Site 3 would be categorized as a magnet site, existing Site 1 would be categorized as a usage-driven site and Sites 2 and 4 would be removed from the zone project;

Whereas, notice inviting public comment was given in the Federal Register (76 FR 10327-10328, 2/24/2011) and the application has been processed pursuant to the FTZ Act and the Board's regulations; and,

Whereas, the Board adopts the findings and recommendation of the examiner examiner's report, and finds that the requirements of the FTZ Act and Board's regulations are satisfied, and that the proposal is in the public interest;

Now, Therefore, the Board hereby orders:

The application to reorganize FTZ 182 under the alternative site framework is approved, subject to the FTZ Act and the Board's regulations, including Section 400.28, to the Board's standard 2,000-acre activation limit for the overall general-purpose zone project, and to a three-year ASF sunset provision for -2- usage-driven sites that would terminate authority for Site 1 if no foreign-status merchandise is admitted for a bona fide customs purpose by June 30, 2014.

Signed at Washington, DC, this 22nd day of June 2011.
Ronald K. Lorentzen,
Deputy Assistant Secretary for Import Administration, Alternate Chairman, Foreign-Trade Zones Board.
Attest:
Andrew McGilvray,
Executive Secretary.

[FR Doc. 2011-16485 Filed 7-1-11; 8:45 am]

BILLING CODE 3510-DS-M